DEPARTMENT OF THE TREASURY

Submission for OMB Review; Comment Request

September 27, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before December 4, 2000 to be assured of consideration.

Bureau of the Public Debt (PD)

OMB Number: 1535-0048.

Form Number: PD F 1851.

Type of Review: Extension.

Title: Request for Reissue of United States Savings Bonds/Notes in the Name of Trustee of Personal Trust Estate.

Description: The form is used to request reissue of savings bonds/notes in the Name(s) of the trustee(s) of a personal trust estate.

Respondents: Individuals or households.

Estimated Number of Respondents: 55,000.

Estimated Burden Hours Per Respondent: 15 minutes.

Frequency of Response: On occasion.

Estimated Total Reporting Burden Hours: 13,750 hours.

OMB Number: 1535-0068.

Form Number: None.

Type of Review: Extension.

Title: Regulations Governing Book-Entry Treasury Bonds, Notes and Bills.

Description: The information is requested to establish an investor's Treasury Account; to dispose of securities upon the owner's request; and, to determine entitlement to securities.

Respondents: Individuals or households, Business or other for-profit, Not-for-profit institutions, State, Local or Tribal Government.

Estimated Number of Respondents: 7,500.

Estimated Burden Hours Per Respondent: 7 minutes.

Frequency of Response: On occasion.

Estimated Total Reporting Burden Hours: 8,775 hours.

OMB Number: 1535-0087.

Form Number: None.

Type of Review: Extension.

Title: Payment by Banks and Other Financial Institutions of United States Savings Bonds and Notes (Freedom Shares).

Description: Qualified financial institutions are authorized to redeem eligible savings bonds and notes, and receive settlement through the Federal Reserve check collection System.

Respondents: Business or other for-profit, Not-for-profit institutions.

Estimated Number of Respondents: 40,000.

Estimated Burden Hours Per Respondent: 4 seconds.

Frequency of Response: On occasion.

Estimated Total Reporting Burden Hours: 77,467 hours.

Clearance Officer: Vicki S. Thorpe (304) 480-6553, Bureau of the Public Debt, 200 Third Street, Parkersburg, West VA 26106-1328.

OMB Reviewer: Alexander T. Hunt (202) 395-7860, Office of Management and Budget, Room 10226, New Executive Office Building, Washington, DC 20503.

Lois K. Holland,
Departmental Reports Management Officer.

[FR Doc. 00-28215 Filed 11-2-00; 8:45 am]

BILLING CODE 4810-40-U